FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4106NF.

Name: AFS, Inc. dba Denali International.

Address: 80 Yesler Way, Seattle, WA 98104-2562.

Date Revoked: December 29, 2001.

Reason: Failed to maintain valid bonds.

License Number: 16964NF.

Name: General Express Group, Corp.

Address: 11455 NW 34th Street, Miami, FL 33178.

Date Revoked: December 7, 2001.

Reason: Failed to maintain valid bonds.

License Number: 15283N.

Name: Global Express Lines USA, Inc.

Address: 44 Old Higgins Road, Des Plaines, IL 60018.

Date Revoked: January 6, 2002.

Reason: Failed to maintain a valid bond.

License Number: 8319N.

Name: Hanmi Shipping, Inc.

Address: 80 Atlantic Street, Hackensack, NJ 07601.

Date Revoked: January 2, 2002.

Reason: Failed to maintain a valid bond.

License Number: 17007N.

Name: JHJ International Transportation Co., Ltd.

Address: Shartex Plaza No. 88, Ste. 2502, Zun Yi Nan, Shanghai, 200336, China.

Date Revoked: January 10, 2002.

Reason: Failed to maintain a valid bond.

License Number: 17601N.

Name: LN Navigation (USA) Inc.

Address: 1120 Walnut Street, San Gabriel, CA 91776.

Date Revoked: January 28, 2002.

Reason: Surrendered license voluntarily.

License Number: 4352F.

Name: Roldan Products Corporation.

Address: 13545 Barrett Parkway Drive, Ballwin, MO 63021.

Date Revoked: January 6, 2002.

Reason: Failed to maintain a valid bond.

License Number: 12895F.

Name: United Trans-Trade, Inc.

Address: 8 Hartland Commons Road, North Brunswick, NJ 08902.

Date Revoked: October 27, 2001.

Reason: Failed to maintain a valid bond.

Sandra L. Kusumoto,
Director, Bureau of Consumer Complaints and Licensing.

[FR Doc. 02-2888 Filed 2-6-02; 8:45 am]

BILLING CODE 6730-01-P